DEPARTMENT OF ENERGY

Federal Energy Regulatory Commission

Combined Notice of Filings #1

Take notice that the Commission received the following electric rate filings:

Docket Numbers: ER10-2437-016.

Applicants: Arizona Public Service Company.

Description: Amendment to May 28, 2021 Notice of Change in Status of Arizona Public Service Company.

Filed Date: 8/27/21.

Accession Number: 20210827-5125.

Comment Date: 5 p.m. ET 9/17/21.

Docket Numbers: ER10-2721-009.

Applicants: El Paso Electric Company.

Description: Supplement to August 28, 2020 Notice of Non-Material Change in Status of El Paso Electric Company.

Filed Date: 8/26/21.

Accession Number: 20210826-5134.

Comment Date: 5 p.m. ET 9/16/21.

Docket Numbers: ER20-287-006.

Applicants: CPV Fairview, LLC.

Description: Compliance filing: Informational Filing Regarding Planned Transfer to be effective N/A.

Filed Date: 8/30/21.

Accession Number: 20210830-5132.

Comment Date: 5 p.m. ET 9/20/21.

Docket Numbers: ER21-471-002.

Applicants: Midcontinent Independent System Operator, Inc.

Description: Report Filing: 2021-08-27_SA 3576 Supplemental for MDU-Emmons Logan Wind FSA (J302 J503) to be effective N/A.

Filed Date: 8/27/21.

Accession Number: 20210827-5100.

Comment Date: 5 p.m. ET 9/17/21.

Docket Numbers: ER21-2238-001.

Applicants: ITC Great Plains, LLC, Southwest Power Pool, Inc.

Description: Tariff Amendment: Southwest Power Pool, Inc. submits tariff filing per 35.17(b): 3817 ITC Great Plains/Iron Star FCRA—Deficiency Response to be effective 8/29/2021.

Filed Date: 8/30/21.

Accession Number: 20210830-5080.

Comment Date: 5 p.m. ET 9/13/21.

Docket Numbers: ER21-2785-000.

Applicants: WSPP Inc.

Description: § 205(d) Rate Filing: List of Members Update 2021 to be effective 8/12/2021.

Filed Date: 8/30/21.

Accession Number: 20210830-5000.

Comment Date: 5 p.m. ET 9/20/21.

Docket Numbers: ER21-2786-000.

Applicants: Southwest Power Pool, Inc.

Description: § 205(d) Rate Filing: 3125R10 Basin Electric Power Cooperative NITSA and NOA to be effective 8/1/2021.

Filed Date: 8/30/21.

Accession Number: 20210830-5034.

Comment Date: 5 p.m. ET 9/20/21.

Docket Numbers: ER21-2787-000.

Applicants: NorthWestern Corporation.

Description: § 205(d) Rate Filing: RS 271—Revised O&M Agreement with REC Advanced Silicon Materials LLC to be effective 8/31/2021.

Filed Date: 8/30/21.

Accession Number: 20210830-5108.

Comment Date: 5 p.m. ET 9/20/21.

Docket Numbers: ER21-2788-000.

Applicants: Midcontinent Independent System Operator, Inc.

Description: § 205(d) Rate Filing: 2021-08-30_Improve ELMP Offline Fast Start Pricing Logic to be effective 10/30/2021.

Filed Date: 8/30/21.

Accession Number: 20210830-5134.

Comment Date: 5 p.m. ET 9/20/21.

Docket Numbers: ER21-2789-000.

Applicants: Duke Energy Carolinas, LLC.

Description: § 205(d) Rate Filing: DEC-NCEMC Revisions to Rate Schedule No. 273 to be effective 1/1/2021.

Filed Date: 8/30/21.

Accession Number: 20210830-5141.

Comment Date: 5 p.m. ET 9/20/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2021.
Debbie-Anne A. Reese,
Deputy Secretary.

[FR Doc. 2021-19074 Filed 9-2-21; 8:45 am]

BILLING CODE 6717-01-P